DEPARTMENT OF HEALTH AND HUMAN SERVICES

Health Resources and Services Administration

Non-Competitive One-Year Extension With Funds for Black Lung/Coal Miner Clinics Program (H37) Current Grantee

AGENCY: Health Resources and Services Administration (HRSA), Department of Health and Human Services (HHS).

ACTION: Notice.

SUMMARY: HRSA will be issuing a non-competitive one-year extension with funds for the Black Lung/Coal Miner Clinics Program awards to the current grantees (included in attached chart), in amounts between $299,000 and $1.5 million over the one-year extension project period. The level of support is at the same annual rate that was authorized in fiscal year (FY) 2012. The Black Lung/Coal Miner Clinics Program supports projects that seek to prevent, monitor, and treat pulmonary and respiratory diseases in active and inactive miners. This extension with funds will allow the Office of Rural Health Policy (ORHP) to reassess the priorities and scope of the program. The extension will also allow for greater pre-application technical assistance and opportunity to ensure funding levels can adequately address target population needs in various parts of the country.

SUPPLEMENTARY INFORMATION: Grantees of record and intended award amounts are included below.

Amount of the Award(s): Each of the current grantees will receive support at the same annual rate that was authorized in FY 2012: between $299,000 and $1.5 million.

CFDA Number: 93.965.

Current Project Period: 7/1/2010 through 6/30/2013.

Period of Additional Funding: 7/1/2013 through 6/30/2014.

Authority: Sec. 427(a) of the Federal Mine Safety and Health Act of 1977, as amended, (30 U.S.C. 937)

Justification: HRSA is extending funding for the Black Lung/Coal Miner Clinics Program grants by one year for the following reasons: recent information from the Centers for Disease Control and Prevention, National Institute of Occupational Safety and Health (CDC/NIOSH) indicates that the prevalence of coal workers' pneumoconiosis (CWP), also known as black lung disease, is rising. In fact, a recent study of 2,000 coal miners from Utah to Pennsylvania showed five times as many miners have CWP than ten years ago. Many miners are developing severe CWP before 50 years of age, and there is some evidence that this is being manifested as premature mortality. In addition, data from the U.S. Department of Labor show the number of federal black lung benefits claims has increased, suggesting that the disease is also leading to increased significant, long-term disability.

This extension will allow the ORHP to consult providers, experts, and federal partners to thoroughly reassess the priorities and scope of the current program, while taking into account regulatory requirements. It will also provide an opportunity to ensure funding levels as well as program resources are most effectively coordinated with other federal efforts to address growing target population needs.

FOR FURTHER INFORMATION CONTACT: Nadia Ibrahim, MA, LGSW, Health Resources and Services Administration, Office of Rural Health Policy, 5600 Fishers Lane, Room 5A-05, Rockville, Maryland 20857 or email nibrahim@hrsa.gov.

Dated: April 4, 2013.
Mary K. Wakefield,
Administrator.

Attachment

Intended Recipients

Organization | Grant number | State | Project start date | Orig. start date | Revised end date | FY10* | FY11** | FY12***
Mountain Comprehensive Health Corporation, Inc | H37RH00050 | KY | 7/1/10 | 6/30/13 | 6/30/14 | $582,993 | $581,978 | $580,040
Community Health of East Tennessee, Inc | H37RH00052 | TN | 7/1/10 | 6/30/13 | 6/30/14 | 191,097 | 190,082 | 188,144
Shawnee Health Service and Development Corporation | H37RH00053 | IL | 7/1/10 | 6/30/13 | 6/30/14 | 872,405 | 871,390 | 869,452
Ohio Department of Health | H37RH00054 | OH | 7/1/10 | 6/30/13 | 6/30/14 | 661,909 | 660,894 | 658,965
John H. Strroger Hospital of Cook County | H37RH00055 | IL | 7/1/10 | 6/30/13 | 6/30/14 | 301,262 | 300,247 | 298,309
Miner's Colfax Medical Center | H37RH00057 | NM | 7/1/10 | 6/30/13 | 6/30/14 | 321,876 | 320,861 | 318,923
Northwest Community Action Programs | H37RH00058 | WY | 7/1/10 | 6/30/13 | 6/30/14 | 300,657 | 299,642 | 247,931
Altoona Hospital | H37RH00064 | PA | 7/1/10 | 6/30/13 | 6/30/14 | 260,086 | 259,071 | 257,133
National Jewish Health | H37RH00066 | CO | 7/1/10 | 6/30/13 | 6/30/14 | 427,000 | 425,985 | 424,047
Alveoli Corporation | H37RH00067 | PA | 7/1/10 | 6/30/13 | 6/30/14 | 149,656 | 148,641 | 146,703
Birmingham Healthcare for the Homeless Coalition | H37RH00068 | AL | 7/1/10 | 6/30/13 | 6/30/14 | 218,267 | 217,252 | 215,314
West Virginia Department of Health & Human Resources | H37RH00046 | WV | 7/1/10 | 6/30/13 | 6/30/14 | 1,504,940 | 1,503,925 | 1,501,700
Centerville Clinics, Inc. | H37RH00047 | PA | 7/1/10 | 6/30/13 | 6/30/14 | 333,403 | 332,388 | 330,450
St. Charles Health | H37RH00048 | VA | 7/1/10 | 6/30/13 | 6/30/14 | 567,663 | 566,648 | 564,710
Coal Miners Respiratory Clinic of Greenville (Muhlenberg Community Hospital) | H37RH00049 | KY | 7/1/10 | 6/30/13 | 6/30/14 | 353,471 | 352,456 | 350,518
* Each grantee received a $4,000 supplement, which is not reflected in the total funding for each organization.
** Each grantee received a $4,824 supplement, which is not reflected in the total funding for each organization.
*** Each grantee received a $5,337 supplement, which is not reflected in the total funding for each organization.

[FR Doc. 2013-08482 Filed 4-11-13; 8:45 am]

BILLING CODE 4165-15-P